DEPARTMENT OF TRANSPORTATION

Federal Aviation Administration

14 CFR Part 71

[Docket No. FAA-2024-1157; Airspace Docket No. 24-AEA-2]

RIN 2120-AA66

Establishment and Amendment of Multiple United States Area Navigation (RNAV) Routes; Eastern United States

AGENCY: Federal Aviation Administration (FAA), DOT.

ACTION: Final rule.

SUMMARY: This action establishes United States Area Navigation (RNAV) Route T-553 and amends RNAV Routes T-356, T-358, and T-479 in the eastern United States. This action supports FAA Next Generation Air Transportation System (NextGen) efforts to provide a modern RNAV route structure to improve the safety and efficiency of the National Airspace System (NAS).

DATES: Effective date 0901 UTC, April 17, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the NAS.

History

The FAA published a NPRM for Docket No. FAA 2024-1157 in the Federal Register (89 FR 42401; May 15, 2024), proposing to establish RNAV Route T-553 and amend RNAV Routes T-356, T-358, and T-479 in the eastern United States. Interested parties were invited to participate in this rulemaking effort by submitting written comments on the proposal to the FAA. No comments were received.

Incorporation by Reference

United States Area Navigation routes are published in paragraph 6011 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by establishing RNAV Route T-553 and amending RNAV Routes T-356, T-358, and T-479 in the eastern United States. This action supports the FAA's NextGen efforts to provide a modern RNAV route structure to improve the safety and efficiency of the NAS. The amendments are described below.

T-356: Prior to this final rule, T-356 extended between the TWIRK, MD, waypoint (WP), and the WIGGZ, PA, WP. The FAA extends T-356 to the south between the Greensboro, NC (GSO), Very High Frequency Omnidirectional Range/Tactical Air Navigation (VORTAC) and the TWIRK WP. The route overlays VOR Federal Airway V-143 between the Greensboro VORTAC and the Martinsburg, WV (MRB), VORTAC. The route extension provides RNAV connectivity between the Greensboro, NC area and the Washington, DC area. As amended, the route extends between the Greensboro VORTAC and the WIGGZ WP.

T-358: Prior to this final rule, T-358 extended between the Martinsburg, WV (MRB), VORTAC and the Augusta, ME (AUG), VOR/Distance Measuring Equipment (VOR/DME). The FAA extends T-358 to the south between the Greensboro, NC (GSO), VORTAC and the Martinsburg VORTAC. The route overlays VOR Federal Airway V-143 between the Greensboro VORTAC and the Martinsburg VORTAC. The route extension provides additional RNAV connectivity between the Greensboro, NC area and the Washington, DC area. As amended, the route extends between the Greensboro VORTAC and the Augusta VOR/DME.

T-479: Prior to this final rule, T-479 extended between the DNVIL, VA, WP and the Elkins, WV (EKN), VORTAC. The FAA removes the airway segment between the DBRAH, VA, WP and the Elkins VORTAC. RNAV navigation connectivity between the DBRAH WP and the Elkins VORTAC is retained as a portion of the proposed new RNAV Route T-553 in this docket. Additionally, the FAA extends T-479 to the west between the DBRAH WP and the JARLO, WV, WP. The route extension overlays VOR Federal Airway V-258 between the Roanoke, VA (ROA), VOR/DME and the Charleston, WV (HVQ), VOR/DME. As amended, the route extends between the DNVIL WP and the JARLO WP.

T-553: T-553 is a new RNAV route that extends between the Greensboro, NC (GSO), VORTAC and the Elkins, WV (EKN), VORTAC. The route overlays VOR Federal Airway V-103 between the Greensboro VORTAC and the Elkins VORTAC and provides RNAV connectivity between the Greensboro, NC area and the Elkins, WV area.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of establishing RNAV Route T-553 and amending RNAV Routes T-356, T-358, and T-479 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6011 United States Area Navigation Routes.

* * * * *

T-356 Greensboro, NC (GSO) to WIGGZ, PA [Amended]
Greensboro, NC (GSO) | VORTAC | (Lat. 36°02′44.50″ N, long. 079°58′34.94″ W)
HURTT, VA | FIX | (Lat. 37°05′57.34″ N, long. 079°19′58.97″ W)
AIROW, VA | WP | (Lat. 37°14′48.69″ N, long. 079°13′47.48″ W)
ELLON, VA | FIX | (Lat. 37°30′06.59″ N, long. 079°11′13.79″ W)
Montebello, VA (MOL) | VOR/DME | (Lat. 37°54′01.89″ N, long. 079°06′24.80″ W)
CEROL, VA | FIX | (Lat. 38°18′59.12″ N, long. 078°47′38.77″ W)
KERRE, VA | FIX | (Lat. 38°38′30.98″ N, long. 078°31′56.58″ W)
CPTAL, MD | WP | (Lat. 39°32′16.02″ N, long. 077°41′55.65″ W)
TWIRK, MD | WP | (Lat. 39°34′36.70″ N, long. 077°12′44.75″ W)
BRILA, MD | WP | (Lat. 39°23′53.04″ N, long. 077°08′31.89″ W)
WOOLY, MD | FIX | (Lat. 39°20′19.18″ N, long. 077°02′11.17″ W)
DROSA, MD | WP | (Lat. 39°18′30.32″ N, long. 076°58′06.22″ W)
OBWON, MD | WP | (Lat. 39°11′54.69″ N, long. 076°32′04.84″ W)
SWANN, MD | FIX | (Lat. 39°09′05.28″ N, long. 076°13′43.94″ W)
ODESA, MD | FIX | (Lat. 39°29′29.00″ N, long. 075°49′44.37″ W)
APEER, MD | WP | (Lat. 39°37′32.94″ N, long. 075°50′25.39″ W)
REESY, PA | WP | (Lat. 39°45′27.94″ N, long. 075°52′07.09″ W)
FOLEZ, PA | WP | (Lat. 39°55′32.76″ N, long. 075°49′16.49″ W)
PIKKE, PA | WP | (Lat. 40°05′27.21″ N, long. 075°52′12.11″ W)
BOYER, PA | FIX | (Lat. 40°16′36.84″ N, long. 076°05′09.38″ W)
Ravine, PA (RAV) | VORTAC | (Lat. 40°33′12.21″ N, long. 076°35′57.77″ W)
Selinsgrove, PA (SEG) | VOR/DME | (Lat. 40°47′27.09″ N, long. 076°53′02.55″ W)
WIGGZ, PA | WP | (Lat. 41°30′51.00″ N, long. 077°58′52.00″ W)

* * * * *

T-358 Greensboro, NC (GSO) to Augusta, ME [Amended]
Greensboro, NC (GSO) | VORTAC | (Lat. 36°02′44.50″ N, long. 079°58′34.94″ W)
DUNCE, VA | FIX | (Lat. 36°50′52.00″ N, long. 079°29′18.20″ W)
HURTT, VA | FIX | (Lat. 37°05′57.34″ N, long. 079°19′58.97″ W)
AIROW, VA | WP | (Lat. 37°14′48.69″ N, long. 079°13′47.48″ W)
ELLON, VA | FIX | (Lat. 37°30′06.59″ N, long. 079°11′13.79″ W)
CLYFF, VA | FIX | (Lat. 37°40′09.45″ N, long. 079°09′12.76″ W)
Montebello, VA (MOL) | VOR/DME | (Lat. 37°54′01.89″ N, long. 079°06′24.80″ W)
CEROL, VA | FIX | (Lat. 38°18′59.12″ N, long. 078°47′38.77″ W)
LURAY, VA | FIX | (Lat. 38°35′54.94″ N, long. 078°34′00.23″ W)
KERRE, VA | FIX | (Lat. 38°38′30.98″ N, long. 078°31′56.58″ W)
Martinsburg, WV (MRB) | VORTAC | (Lat. 39°23′08.06″ N, long. 077°50′54.08″ W)
CPTAL, MD | WP | (Lat. 39°32′16.02″ N, long. 077°41′55.65″ W)
TWIRK, MD | WP | (Lat. 39°34′36.70″ N, long. 077°12′44.75″ W)
HAMRR, MD | WP | (Lat. 39°30′03.42″ N, long. 076°56′10.84″ W)
DANII, MD | WP | (Lat. 39°17′46.42″ N, long. 076°42′19.36″ W)
OBWON, MD | WP | (Lat. 39°11′54.69″ N, long. 076°32′04.84″ W)
SWANN, MD | FIX | (Lat. 39°09′05.28″ N, long. 076°13′43.94″ W)
Smyrna, DE (ENO) | VORTAC | (Lat. 39°13′53.93″ N, long. 075°30′57.49″ W)
AVALO, NJ | FIX | (Lat. 39°16′54.52″ N, long. 074°30′50.75″ W)
MANTA, NJ | FIX | (Lat. 39°54′07.01″ N, long. 073°32′31.63″ W)
BEADS, NY | FIX | (Lat. 40°44′04.51″ N, long. 072°32′34.21″ W)
ORCHA, NY | WP | (Lat. 40°54′55.46″ N, long. 072°18′43.64″ W)
JORDN, NY | FIX | (Lat. 41°03′16.92″ N, long. 071°54′52.66″ W)
Sandy Point, RI (SEY) | VOR/DME | (Lat. 41°10′02.77″ N, long. 071°34′33.91″ W)
BURDY, MA | FIX | (Lat. 41°57′19.14″ N, long. 070°57′07.45″ W)
HAVNS, OA | WP | (Lat. 42°17′55.00″ N, long. 070°27′42.00″ W)
GRGIO, MA | WP | (Lat. 42°35′09.36″ N, long. 070°33′54.40″ W)
LBSTA, MA | FIX | (Lat. 42°48′00.00″ N, long. 070°36′48.70″ W)
MESHL, ME | FIX | (Lat. 43°19′12.07″ N, long. 070°09′48.03″ W)
Augusta, ME (AUG) | VOR/DME | (Lat. 44°19′12.07″ N, long. 069°47′47.63″ W)

* * * * *

T-479 DNVIL, VA to JARLO, WV [Amended]
DNVIL, VA | WP | (Lat. 36°33′49.53″ N, long. 079°19′53.54″ W)
PIGGS, VA | FIX | (Lat. 36°56′01.81″ N, long. 079°42′40.61″ W)
DBRAH, VA | WP | (Lat. 37°20′34.14″ N, long. 080°04′10.75″ W)
ZOOMS, WV | FIX | (Lat. 37°28′32.22″ N, long. 080°35′06.70″ W)
SITTR, WV | WP | (Lat. 37°46′49.13″ N, long. 081°07′23.70″ W)
JARLO, WV | WP | (Lat. 38°20′58.85″ N, long. 081°46′11.68″ W)

* * * * *

T-553 Greensboro, NC (GSO) to Elkins, WV (EKN) [New]
Greensboro, NC (GSO) | VORTAC | (Lat. 36°02′44.50″ N, long. 079°58′34.94″ W)
DBRAH, VA | WP | (Lat. 37°20′34.14″ N, long. 080°04′10.75″ W)
Elkins, WV (EKN) | VORTAC | (Lat. 38°54′51.97″ N, long. 080°05′57.38″ W)

* * * * *

Issued in Washington, DC, on January 28, 2025.
Brian Eric Konie,
Manager (A), Rules and Regulations Group.

[FR Doc. 2025-02054 Filed 1-31-25; 8:45 am]

BILLING CODE 4910-13-P